NATIONAL AERONAUTICS AND SPACE ADMINISTRATION

[Notice 05-059]

The Aeronautics Research Advisory Committee, Council of Deans Subcommittee; Meeting

AGENCY: National Aeronautics and Space Administration.

ACTION: Notice of meeting.

SUMMARY: The National Aeronautics and Space Administration, Aeronautics Research Advisory Committee, announces a forthcoming meeting of the Council of Deans Subcommittee.

DATES: Wednesday, April 13, 2005, 12:30 p.m. to 5:15 p.m.; and Thursday, April 14, 2005, 8:30 a.m. to 12 Noon.

ADDRESSES: Westward Look Resort, 245 E. Ina Road, Tucson, Arizona 85704.

FOR FURTHER INFORMATION CONTACT: Mrs. Mary-Ellen McGrath, Office of Aeronautics Research, National Aeronautics and Space Administration, Washington, DC 20546, (202) 358-4729.

SUPPLEMENTARY INFORMATION: The meeting will be open to the public up to the seating capacity of the room. The agenda for the meeting is as follows:

• Opening Remarks

• Aeronautics Mission Directorate Budget Update

• Task Force Reports

• Safety and Security Program Overview

• NASA Office of Education Overview

• Assessment of the Current Aeronautics Mission University Program

• Closing Comments

It is imperative that the meeting be held on these dates to accommodate the scheduling priorities of the key participants.

Dated: March 17, 2005.
P. Diane Rausch,
Advisory Committee Management Officer, National Aeronautics and Space Administration.

[FR Doc. 05-5771 Filed 3-22-05; 8:45 am]

BILLING CODE 7510-13-P